DEPARTMENT OF AGRICULTURE

Forest Service

Ashland Post-Fire Project, Custer National Forest, Rosebud and Power River Counties, MT

AGENCY: Forest Service, USDA.

ACTION: Notice of intent to prepare an environmental impact statement.

SUMMARY: The USDA, Forest Service, will prepare an environmental impact statement (EIS) for a proposal to move toward Forest Plan goals and objectives by supporting restoration practices and rehabilitation efforts within the Tobin and Stag Fires on the Ashland Post-Fire Project Area. The Forest Plan goals and objectives that will be met include minimizing public safety hazards through hazard tree removal, maintaining soil productivity and minimizing soil erosion by managing fuel loading and arrangement, and capturing economic values associated with restoration activities as a result of timely harvest of fire-damaged trees (dead or where mortality is imminent). We are not proposing to remove any live trees. The proposed action will be accomplished through restoration activities stipulated as part of harvest operations and through restoration activities funded by Knutsen-Vandenberg collection from post-fire harvest. The EIS will tier to the 1987 Custer National Forest and Grasslands Land and Resource Management Plan (Forest Plan) which provide the overall management direction for the area. The proposed action is consistent with the Forest Plan.

The proposed activities are located within the Tobin and Stag Fire perimeters that include the Three-Mile, King, Odell, Cow, Brian, and Padget drainages on the Ashland Ranger District, in Eastern Montana. The analysis area consists of approximately 71,200 acres with proposed activities within approximately 4,500 acres. The following activities are proposed: (1) Minimize the potential for public safety hazards by harvesting fire-damaged trees within one and a half tree lengths from the edge of Forest Service Transportation System roads; (2) maintain soil productivity and minimize accelerated erosion; (3) limit fuel loads and their spatial arrangement through treatment of dead and dying trees through various activities from harvest operations; and (4) capture economic values associated with restoration activities as a result of harvesting fire-damaged trees within a timely manner. The projects would be implemented from fiscal year 2001 into the year 2002. The agency invites written comments and suggestions on the scope of this project. In addition, the agency gives notice of this analysis so that interested and affected people are aware of how they may participate and contribute to the planning process and final decision.

DATES: Comments concerning the scope of the analysis should be received in writing by October 2, 2000.

ADDRESSES: Send written concerns and comments to Elizabeth A. McFarland, District Ranger, Ashland Ranger District, P.O. Box 168, Ashland, Montana 59003.

FOR FURTHER INFORMATION CONTACT: Direct questions about the proposed action and EIS to Kim Reid, Project Coordinator, 1310 Main St., Billings, Montana 59105, phone (406) 657-6200 ext. 233 or (406) 784-2344.

SUPPLEMENTARY INFORMATION: The purpose of the Forest Service proposal is to further movement towards desired conditions outlined in the Forest Plan, by:

• Manipulating fuel loading in order to reduce the potential for high intensity fire effects to resources and to reduce difficulty in future suppression activities with the treatment areas.

• Capture economic values associated with restoration activities as a result of harvesting fire-damaged trees (dead or where mortality is imminent) within a timely manner.

• Reduce public safety hazards caused by fire-damaged trees within one and a half tree lengths from edge of Forest transportation system roads.

The proposed action will be consistent with the Forest Plan, which provides goals, objectives, standards and guidelines of the various activities and land allocations on the forest. The Forest Plan allocates the project area into six management areas (MAs): MA B—Rangeland Emphasis; MAD—Wildlife/Timber/Rangeland; MAG—Timber emphasis; MAJ—Riding and Hiking emphasis; MAN—Riparian emphasis; and MAM—Hardwood Draw emphasis. Private lands (about 1000 acres in the Stag Fire and a little over 40 acres in the Tobin Fire areas) are also included within the project area boundary. Although excluded from Forest Service activities, project access and the condition of private lands will be considered during alternative development and when analyzing potential cumulative effects.

The key issue topics identified to date include:

• Long-term fuel loading and spatial arrangement,

• Timeliness and economic feasibility of harvest in order to recuperate economic value,

• Loss of soil productivity due to potential accelerated runoff events,

• Impacts on soil properties, infiltration, and surface overland flow,

• Public safety, and,

• Wildlife habitat and other species considerations.

A range of reasonable alternatives will be considered, including a no action alternative. Based on the issues gathered through scoping, the action alternatives will vary in (1) the amount and location of acres considered for treatment, (2) the number, type, and location of activity, (3) the silvicultural and post-harvest practices prescribed, (4) the amount of temporary road constructed for access, and (5) the amount of time needed to move the area toward a desired condition.

Public participation will be especially important at several points during the analysis, beginning with the scoping process (40 CFR 1501.7). The Forest Service will be seeking information, comments, and assistance from Federal, State, local agencies, tribes and other individuals or organizations who may be interested in or affected by the proposed project. This input will be used in preparation of the draft EIS. Continued scoping and public participation efforts will be used by the interdisciplinary team to identify new issues, determine alternatives in response to the issues, and determine the level of analysis needed to disclose potential biological, physical, economic, and social impacts associated with this project. The scoping process includes:

• Identification of potential issues.

• Identification of issues to be analyzed in depth.

• Elimination of insignificant issues that have been covered by a relevant previous environmental process.

• Exploration of additional alternatives based on the issues identified during the scoping process.

• Identification of potential environmental effects of the proposed action and alternatives (i.e. direct, indirect, and cumulative effects and connected actions).

The draft EIS is expected to be filed with the Environmental Protection Agency (EPA) and to be available for public review by mid October 2000. The EPA will publish a notice of availability of the draft EIS in the Federal Register. The comment period on the draft EIS will be 45 days from the date the EPA notice appears in the Federal Register. At that time, copies of the draft EIS will be distributed to interested and affected agencies, organizations, and members of the public for their review and comments. It is important that those interested in the proposal on the Ashland Ranger District, of the Custer National Forest, participate at that time.

The Forest Service believes it is important to give reviewers notice, at this early stage, of several court rulings related to public participation in the environmental review process. First, reviewers of a draft EIS must structure their participation in the environmental review of the proposal so that it is meaningful and alerts the agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc, v. Harris, 490 F. Supp. 1334, 1338 (E.D. Wis. 1980). Because of these court rulings, it is very important that those interested in this proposed action participate by the close of the 45-day comment period so that substantive comments and objections are made available to the Forest Service at a time when it can meaningfully consider and respond to them in the final EIS. To assist the Forest Service in identifying and considering issues and concerns on the proposed actions, comments on the draft EIS should be as specific as possible. It is also helpful if comments refer to specific pages or chapters of the draft EIS. Comments may also address the adequacy of the draft EIS or merits of the alternatives formulated and discussed in the statement. (Reviewers may wish to refer to the Council on Environmental Quality Regulations for implementing the procedural provisions of the National Environmental Policy Act at 40 CFR 1503.3 in addressing these points.) The final EIS is schedules for completion by December 2000. In the final EIS, the Forest Service is required to respond to substantive comments received during the comment period for the draft EIS. Nancy T. Curriden, Forest Supervisor of the Custer National Forest, is the responsible official. She will decide which, if any, of the proposed project alternatives will be implemented. Her decision and reason for the decisions will be documented in the Record of Decision. That decision will be subject to Forest Service appeal regulations (36 CFR part 215).

Dated: September 18, 2000.
Nancy T. Curriden,
Forest Supervisor.

[FR Doc. 00-24366 Filed 9-21-00; 8:45 am]

BILLING CODE 3410-11-M